DEPARTMENT OF TRANSPORTATION

National Highway Traffic Safety Administration

[Docket No. NHTSA 2000-8105; Notice 2]

Accuride Corporation; Grant of Application for Decision of Inconsequential Noncompliance

Accuride Corporation of Evansville, Indiana, a manufacturer of truck rims and wheels, has determined that approximately 3,700 20 × 7.5 FL side rings produced by Accuride de Mexico (AdM), Accuride's wholly-owned subsidiary, at its Monterrey, Mexico plant, and by Industria Automotriz S.A. de C.V. (IaSa), a Mexican corporation and Accuride's Mexican joint venture partner, fail to comply with Federal Motor Vehicle Safety Standard (FMVSS) 120, “Tire Selection and Rims for Motor Vehicles Other Than Passenger Cars.” Accuride filed an appropriate report pursuant to 49 CFR part 573, “Defect and Noncompliance Reports.” Accuride has also applied to be exempted from the notification and remedy requirements of 49 U.S.C. Chapter 301—“Motor Vehicle Safety” on the basis that the noncompliance is inconsequential to motor vehicle safety.

Notice of receipt of the application was published, with a 30-day comment period, on March 2, 2001, in the Federal Register (66 FR 13126). NHTSA received no comments.

The purpose of FMVSS No. 120, according to S2, is “to provide safe operational performance by ensuring that vehicles to which it applies are equipped with tires of adequate size and load rating and with rims of appropriate size and type designation.” Paragraph S5.2 of FMVSS No. 120 requires that each piece, other than the rim base of a multipiece rim, be marked with specific information, including the rim size designation, and a designation that identifies the manufacturer of the rim by name, trademark, or symbol.

Accuride's noncompliance relates to the mis-stamping of the marking on the multipiece rim rings. The stamped rim size designation and type designation on the ring, was transposed as “R7.5 × 20 FL” instead of “20 × 7.5 FL.” Accuride states, “All other stampings and markings required by FMVSS 120 and Accuride, including the part number and load rating, are correctly identified on each of the components in question.” AdM produced a total of approximately 896 rings from January 3, 2000 to February 18, 2000, and approximately 2,804 rings were produced by IaSa and sold by Accuride prior to January 3, 2000. Accuride believes that there is no safety-related issue with respect to this equipment.

These rings, marked with transposed numbers, were sent to original equipment manufacturers and were fitted to Class 8 conventional trucks and trailers. Accuride argues that an individual in a heavy truck repair facility would quickly realize that this marking is incorrect and would be unlikely to attempt to fit this ring on a rim of the size marked. The probability of one of these rings being placed on a rim by an individual believing that the marking is correct is highly unlikely, if not physically impossible, would be attempting to fit a 20-inch diameter ring on to a 7.5-inch diameter base rim.

According to the petitioner, senior Accuride management has extensively reviewed the processes, the causes of these noncompliances have been isolated, and changes in the processes have been instituted to prevent any future occurrences. In addition, the noncompliance is limited to the equipment addressed in this notice, and Accuride stated that its future products would comply with the requirements of FMVSS No. 120.

The agency agrees with Accuride's verbal statements, provided in a telephone conversation, that an individual working in a heavy truck repair shop or tire shop would quickly realize that the size on the ring is mis-labeled by examining the matching rim and mounted tire. Accuride provides the correct size information; however, that information is transposed. These rings and matching rims will be serviced in Class 8 capable facilities with trained heavy truck personnel. The probability of these rings being placed on a rim by a trained individual believing that the marking is correct is remote.

In consideration of the foregoing, NHTSA has decided that the applicant has met its burden of persuasion that the noncompliance it describes is inconsequential to motor vehicle safety. Accordingly, Accuride's application is hereby granted, and the applicant is exempted from the obligation of providing notification of, and a remedy for, the noncompliance.

(49 U.S.C. 30118; delegations of authority at 49 CFR 1.50 and 501.8).
Issued on: September 7, 2001.
Stephen R. Kratzke,
Associate Administrator for Safety Performance Standards.

[FR Doc. 01-22849 Filed 9-11-01; 8:45 am]

BILLING CODE 4910-59-P